Title 3—

The President

Proclamation 10278 of October 5, 2021

German-American Day, 2021

By the President of the United States of America

A Proclamation

Since the first Germans arrived on American soil in the 17th century in search of religious freedom and opportunity, German-Americans have played an essential role in the foundation and growth of our country. Today, German-Americans make up one of the largest ancestry groups in our country, with more than 43 million Americans of German heritage living in the United States. Their influence has been felt in each successive generation, and their contributions to the United States have been innumerable. On German-American Day, we celebrate the German-Americans who continue to enhance our Nation with their talents, skills, knowledge, and rich cultural heritage.

The contributions of German-Americans are woven into the fabric of America, touching our lives every day. From the Brooklyn Bridge to airplanes, jeans to pianos, the food we eat to the beer we drink—German-Americans have invented, built, and influenced some of the most iconic American products and institutions. Generations of German-Americans have served our Nation as first responders, public servants, scientists, entrepreneurs, farmers and ranchers, authors, and athletes among many other occupations.

The strong ties between the people of America and Germany that have arisen since the end of World War II reflect the common bonds our countries enjoy. We remain committed to the shared democratic values and institutions that have shaped our nations and our economies. Earlier this year, the United States and Germany signed the Washington Declaration, reaffirming the democratic principles that underpin our steadfast commitment to bilateral cooperation in promoting peace, security, and prosperity around the world. The United States and Germany are inseparable allies.

On German-American Day, we celebrate our Nation's German-American heritage and recognize the contributions both past and present of German-Americans across our country.

NOW, THEREFORE, I, JOSEPH R. BIDEN JR., President of the United States of America, do hereby proclaim October 6, 2021, as German-American Day. I urge all Americans to celebrate the rich and varied history of German-Americans and remember the many contributions they have made to our Nation.

IN WITNESS WHEREOF, I have hereunto set my hand this fifth day of October, in the year of our Lord two thousand twenty-one, and of the Independence of the United States of America the two hundred and forty-sixth.

[FR Doc. 2021-22134

Filed 10-7-21; 8:45 am]

Billing code 3395-F2-P